DEPARTMENT OF ENERGY

[FE Docket No. 16-15-LNG]

Eagle LNG Partners Jacksonville LLC; Opinion and Order Granting Long-Term Authorization To Export Liquefied Natural Gas to Non-Free Trade Agreement Nations

AGENCY: Office of Fossil Energy, Department of Energy.

ACTION: Record of decision.

SUMMARY: The Office of Fossil Energy (FE) of the Department of Energy (DOE) gives notice of a Record of Decision (ROD) published under the National Environmental Policy Act of 1969 (NEPA) and implementing regulations. This ROD supports DOE/FE's decision in DOE/FE Order No. 4445, an opinion and order authorizing Eagle LNG Partners Jacksonville LLC to export domestically produced liquefied natural gas (LNG) to non-free trade agreement countries under section 3(a) of the Natural Gas Act (NGA).

FOR FURTHER INFORMATION CONTACT:

Amy Sweeney, U.S. Department of Energy (FE-34) Office of Regulation, Analysis, and Engagement, Office of Fossil Energy, Forrestal Building, Room 3E-042, 1000 Independence Avenue SW, Washington, DC 20585, (202) 586-2627, Amy.Sweeney@hq.doe.gov.

Kari Twaite, U.S. Department of Energy (GC-76), Office of the Assistant General Counsel for Electricity and Fossil Energy, Forrestal Building, 1000 Independence Avenue SW, Washington, DC 20585, (202) 586-6978, Kari.Twaite@hq.doe.gov.

SUPPLEMENTARY INFORMATION: On October 3, 2019, DOE/FE issued Order No. 4445 to Eagle LNG Partners Jacksonville LLC (Eagle LNG) under NGA section 3(a), 15 U.S.C. 717b(a). This Order authorizes Eagle LNG to export domestically produced LNG to any country with which the United States has not entered into a free trade agreement (FTA) requiring national treatment for trade in natural gas, and with which trade is not prohibited by U.S. law or policy (non-FTA countries). Eagle LNG is authorized to export LNG in a volume equivalent to 49.8 billion cubic feet (Bcf) per year of natural gas (0.14 Bcf/day) from the proposed Jacksonville Project (Project), to be located in Jacksonville, Florida.

DOE/FE participated as a cooperating agency with the Federal Energy Regulatory Commission in preparing an environmental impact statement (EIS) analyzing the potential environmental impacts of the proposed Project that would be used to support the export authorization sought from DOE/FE. DOE adopted the EIS and prepared the ROD, which is attached as an appendix to the Order. The ROD can be found here: https://www.energy.gov/sites/prod/files/2019/10/f67/ord4445.pdf.

Signed in Washington, DC, on March 12, 2020.
Amy Sweeney,
Director, Office of Regulation, Analysis, and Engagement, Office of Oil and Natural Gas.

[FR Doc. 2020-05585 Filed 3-17-20; 8:45 am]

BILLING CODE 6450-01-P